DEPARTMENT OF COMMERCE

International Trade Administration

[A-580-868]

Large Residential Washers From the Republic of Korea: Rescission of Antidumping Duty Administrative Review; 2018

AGENCY: Enforcement and Compliance, International Trade Administration, Department of Commerce.

SUMMARY: The Department of Commerce (Commerce) is rescinding its administrative review of the antidumping duty (AD) order on large residential washers (washers) from the Republic of Korea (Korea) for the period of review (POR) February 1, 2018, through February 14, 2018.

DATES: Applicable August 14, 2019.

FOR FURTHER INFORMATION CONTACT: David Goldberger or Ian Hamilton, AD/CVD Operations, Office II, Enforcement and Compliance, International Trade Administration, U.S. Department of Commerce, 1401 Constitution Avenue NW, Washington, DC 20230; telephone: (202) 482-4136 or (202) 482-4798, respectively.

SUPPLEMENTARY INFORMATION:

Background

On February 8, 2019, Commerce published in the Federal Register a notice of opportunity to request an administrative review of the AD order on washers from Korea for the POR.¹ Commerce received timely requests from Whirlpool Corporation (the petitioner) and LG Electronics, Inc. (LGE), in accordance with section 751(a) of the Tariff Act of 1930, as amended (the Act), and 19 CFR 351.213(b), to conduct an administrative review of this AD order for LGE.²

¹ See Antidumping or Countervailing Duty Order, Finding, or Suspended Investigation; Opportunity To Request Administrative Review, 84 FR 2816 (February 8, 2019).

² See Petitioner's Letter, “Large Residential Washers from Korea: Request for Administrative Review of Antidumping Order,” dated February 26, 2019; see also LGE Letter, “LG Electronics' Request for Antidumping Administrative Review Large Residential Washers from Korea,” dated February 28, 2019.

On April 30, 2019, the International Trade Commission determined that revocation of the AD order on washers from Korea would not be likely to lead to a continuation or recurrence of material injury to an industry in the United States within a reasonably foreseeable time, pursuant to section 751(c) of the Act.³ Therefore, on May 6, 2019, Commerce revoked the AD order on washers from Korea effective February 15, 2018.⁴

³ See Certain Large Residential Washers from Korea and Mexico, 84 FR 18319 (April 30, 2019). See also Certain Large Residential Washers from Korea and Mexico (Inv. Nos. 701-TA-488 and 731- TA-1199-1200 (Review)), USITC Publication 4882 (April 2019).

⁴ See Large Residential Washers from Mexico and the Republic of Korea: Continuation of Antidumping Duty Order (Mexico) and Revocation of Antidumping and Countervailing Duty Orders (Korea), 84 FR 19763 (May 6, 2019).

On May 2, 2019, Commerce published in the Federal Register a notice of initiation of administrative review with respect to LGE.⁵ As a result of the revocation of the AD order, the POR of this administrative review is February 1, 2018, through February 14, 2018.

⁵ See Initiation of Antidumping and Countervailing Duty Administrative Reviews, 84 FR 18777, 18782 (May 2, 2019).

On July 26, 2019, both the petitioner and LGE timely withdrew their requests for an administrative review of LGE.⁶

⁶ See Petitioner's Letter, “Large Residential Washers from Korea: Withdrawal of Request for Administrative Review of Antidumping Order,” dated July 26, 2019; see also LGE Letter, “LG Electronics' Withdrawal of Request for Antidumping Administrative Review Large Residential Washers from Korea,” dated July 26, 2019.

Rescission of Administrative Review

Pursuant to 19 CFR 351.213(d)(1), Commerce will rescind an administrative review, in whole or in part, if the parties that requested a review withdraw the request within 90 days of the date of publication of the notice of initiation of the requested review. The petitioner and LGE withdrew their requests for review before the 90-day deadline, and no other party requested an administrative review of this order. Therefore, we are rescinding the administrative review of the AD order on washers from Korea covering the period February 1, 2018, through February 14, 2018.

Assessment

Commerce will instruct U.S. Customs and Border Protection (CBP) to assess antidumping duties on all appropriate entries. Because Commerce is rescinding this administrative review in its entirety, the entries to which this administrative review pertained shall be assessed at rates equal to the cash deposit of estimated antidumping duties required at the time of entry, or withdrawal from warehouse, for consumption, in accordance with 19 CFR 351.212(c)(1)(i). Commerce intends to issue appropriate assessment instructions directly to CBP 15 days after the date of publication of this notice in the Federal Register.

Notification to Importers

This notice serves as the only reminder to importers of their responsibility, under 19 CFR 351.402(f)(2), to file a certificate regarding the reimbursement of antidumping and/or countervailing duties prior to liquidation of the relevant entries during this review period. Failure to comply with this requirement may result in the presumption that reimbursement of antidumping and/or countervailing duties occurred and the subsequent assessment of double antidumping duties.

Notification Regarding Administrative Protective Orders

This notice serves as the only reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

Notification to Interested Parties

This notice is published in accordance with sections 751(a)(1) and 777(i)(1) of the Act and 19 CFR 351.213(d)(4).

Dated: August 7, 2019.
James Maeder,
Deputy Assistant Secretary for Antidumping and Countervailing Duty Operations.

[FR Doc. 2019-17429 Filed 8-13-19; 8:45 am]

BILLING CODE 3510-DS-P